DEPARTMENT OF TRANSPORTATION

Federal Aviation Administration

14 CFR Part 39

[Docket No. FAA-2011-0384; Directorate Identifier 2010-NM-058-AD; Amendment 39-17041; AD 2012-09-06]

RIN 2120-AA64

Airworthiness Directives; The Boeing Company Airplanes

AGENCY: Federal Aviation Administration (FAA), DOT.

ACTION: Final rule.

SUMMARY: We are adopting a new airworthiness directive (AD) for certain The Boeing Company Model 737-700 series airplanes. This AD was prompted by reports that the aft seat leg fittings span the station (STA) 521.45 “stay-out zone.” This AD requires for certain airplanes, replacing the seat track pivot link assemblies, seat track sections, and floor panels. For certain airplanes, this AD also requires moving certain rows of passenger seats. For certain other airplanes, this AD also requires inspecting certain areas of the seat tracks for damage, and corrective actions if necessary. We are issuing this AD to prevent failure of the seat attachment structure and possible injury to passengers during an emergency landing.

DATES: This AD is effective June 12, 2012.

The Director of the Federal Register approved the incorporation by reference of certain publications listed in the AD as of June 12, 2012.

ADDRESSES: For service information identified in this AD, contact Boeing Commercial Airplanes, Attention: Data & Services Management, P.O. Box 3707, MC 2H-65, Seattle, Washington 98124-2207; telephone 206-544-5000, extension 1; fax 206-766-5680; email me.boecom@boeing.com; Internet https://www.myboeingfleet.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue SE., Washington, DC 20590.

FOR FURTHER INFORMATION CONTACT: Sarah Piccola, Aerospace Engineer, Cabin Safety and Environmental Systems Branch, ANM-150S, FAA, Seattle Aircraft Certification Office, 1601 Lind Avenue SW., Renton, Washington 98057-3356; phone: 425-917-6483; fax: 425-917-6590; email: sarah.piccola@faa.gov.

SUPPLEMENTARY INFORMATION:

Discussion

We issued a notice of proposed rulemaking (NPRM) to amend 14 CFR part 39 to include an AD that would apply to the specified products. That NPRM published in the Federal Register on April 25, 2011 (76 FR 22828). That NPRM proposed to require, for certain airplanes, replacing the seat track pivot link assemblies, seat track sections, and floor panels. For certain airplanes, that NPRM also proposed to require moving certain rows of passenger seats. For certain other airplanes, that NPRM also proposed to require inspecting certain areas of the seat tracks for damage, and corrective actions if necessary.

Explanation of Change to the AD

We reviewed the compliance times that were proposed and determined that the compliance time in paragraph (h)(1) of the NPRM (76 FR 22828, April 25, 2011) applies to all airplanes identified in paragraph (h) of this AD and the compliance time proposed in paragraph (h)(2) of the NPRM is unnecessary. We have therefore removed paragraphs (h)(1) and (h)(2) of the NPRM and revised paragraph (h) of this AD.

Comments

We gave the public the opportunity to participate in developing this AD. The following presents the comments received on the proposal (76 FR 22828, April 25, 2011) and the FAA's response to each comment. Boeing supports the NPRM.

Request To Withdraw the Proposed AD (76 FR 22828, April 25, 2011)

AirTran Airways (ATA) (now owned by Southwest Airlines) and Southwest Airlines (SWA) requested that the NPRM (76 FR 22828, April 25, 2011) be withdrawn. ATA and SWA stated that the Model 737-700 series airplanes owned by ATA and transferred to SWA ownership have been or will be modified to have new B/E Aerospace seats installed in a different layout of passenger accommodation (LOPA). The LOPA for those B/E Aerospace seats does not have a seat leg fitting that spans the STA 521.45 “stay-out zone.” ATA stated that it accomplished the actions of Boeing Special Attention Service Bulletin 737-53-1286, dated November 20, 2008, or Revision 1, dated December 14, 2009, on 22 of its airplanes; those airplanes and the remaining 24 airplanes in its fleet would be modified to SWA's seat configuration before the effective date of the AD. ATA also stated that it sold three of the 49 airplanes listed in Boeing Special Attention Service Bulletin 737-25-1596, dated November 20, 2008. ATA and SWA stated that since the new seats are from a different seat manufacturer and will be installed in a different approved LOPA, the unsafe condition would no longer exist.

We disagree with the commenters' request to withdraw the proposed AD (76 FR 22828, April 25, 2011). Replacing the existing Recaro seat configuration with the B/E Aerospace configuration would address the unsafe condition while that configuration is installed. However, the approval for the Recaro seats with the LOPA that has a seat leg fitting that spans the STA 521.45 “stay-out zone” would still exist. It would be possible, for example, for an operator that has purchased one of the three airplanes that ATA sold to convert the seats and LOPA back to the Recaro seats and the related LOPA that spans the STA 521.45 “stay-out zone.” In light of this, the unsafe condition is likely to exist or develop in the affected airplanes. As a result, we are issuing this AD to eliminate the unsafe condition by requiring that seat leg fittings do not span the “stay-out zone.” The AD is the appropriate vehicle for mandating such actions. We have not changed the AD in this regard.

Request To Revise Applicability of the Proposed AD (76 FR 22828, April 25, 2011)

ATA and SWA also requested that if the NPRM (76 FR 22828, April 25, 2011) is not withdrawn, that the proposed applicability be revised to apply only to airplanes with specific Recaro seats installed in a specific configuration. SWA stated that if the airplane does not have those specific Recaro seats installed with the foot spanning the STA 521.45 “stay-out zone,” then the unsafe condition does not exist and the AD should not apply. ATA also stated that having an AD include airplanes on which the modification to a different LOPA or the applicable service bulletins has been accomplished would result in applying for an alternative method of compliance (AMOC) each time a revision to that LOPA is issued. ATA stated that issuing AMOCs each time a LOPA is revised would produce an undue burden on both the airline and the FAA.

We partially agree. The applicability statement of this AD references certain service bulletins, one of which contains conditions as part of its effectivity. Part of the applicability statement in paragraph (c) of this AD contains an indirect reference to the conditional statement that the commenters requested, i.e., “a passenger seat configuration that could result in a seat leg plunger being installed across a seat track pivot point * * *,” as described in paragraph 1.A. of Boeing Special Attention Service Bulletin 737-53-1286, Revision 1, dated December 14, 2009. Boeing Special Attention Service Bulletin 737-53-1286, Revision 1, dated December 14, 2009, is referenced in paragraphs (c)(1) (as an applicability condition) and (g) (in the identification of affected airplanes) of this AD. When an airplane has been modified so that a seat leg plunger is not installed across that specific seat track pivot point, the actions required by paragraph (g) of this AD would not be required. The other service bulletins referenced in the proposed AD (76 FR 22828, April 25, 2011) do specify specific airplanes without conditional statements on whether certain seat configurations are installed. Also, we do not consider it appropriate to include various provisions in an AD applicable only to individual airplanes or to a single operator's seat configurations or unique use of an airplane. Once we issue this AD, any person may request approval of an AMOC under the provisions of paragraph (k) of this AD. We have not changed the AD in this regard.

Change to AMOC Paragraph

We have added paragraph (k)(3) to this final rule to provide operators with the option to apply for an AMOC that has been approved by the Boeing Commercial Airplanes Organization Designation Authorization (ODA) that has been authorized by the Manager, Seattle Aircraft Certification Office, to make those findings.

Conclusion

We reviewed the relevant data, considered the comments received, and determined that air safety and the public interest require adopting the AD as proposed—except for minor editorial changes. We have determined that these minor changes:

• Are consistent with the intent that was proposed in the NPRM (76 FR 22828, April 25, 2011) for correcting the unsafe condition; and

• Do not add any additional burden upon the public than was already proposed in the NPRM (76 FR 22828, April 25, 2011).

Costs of Compliance

We estimate that this AD will affect 50 airplanes of U.S. registry. The following table provides the estimated costs for U.S. operators to comply with this AD.

Table—Estimated Costs
Boeing Service Bulletin | Work hours | Average labor rate per hour | Parts | Cost per product | Number of U.S.- registered airplanes | Fleet cost
737-53-1286 | 96 | $85 | Up to $28,258 | Up to $36,418 | 50 | Up to $1,820,900.
737-25-1596 | 4 | 85 | None | 340 | 12 | $4,080.
737-25-1598 | 3 | 85 | None | 255 | 1 | 255.
737-25-1599 | 3 | 85 | None | 255 | 14 | 3,570.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-09-06 The Boeing Company: Amendment 39-17041; Docket No. FAA-2011-0384; Directorate Identifier 2010-NM-058-AD.

(a) Effective Date

This AD is effective June 12, 2012.

(b) Affected ADs

None.

(c) Applicability

This AD applies to The Boeing Company Model 737-700 series airplanes, certificated in any category; as identified in the service bulletins specified in paragraphs (c)(1), (c)(2), and (c)(3) of this AD.

(1) Boeing Special Attention Service Bulletin 737-53-1286, Revision 1, dated December 14, 2009.

(2) Boeing Special Attention Service Bulletin 737-25-1598, dated December 8, 2009.

(3) Boeing Special Attention Service Bulletin 737-25-1599, dated January 20, 2010.

(d) Subject

Air Transport Association (ATA) of America Code 25: Equipment/Furnishings.

(e) Unsafe Condition

This AD results from reports that the aft seat leg fittings span the station (STA) 521.45 “stay-out zone.” The Federal Aviation Administration is issuing this AD to prevent failure of the seat attachment structure and possible injury to passengers during an emergency landing.

(f) Compliance

You are responsible for having the actions required by this AD performed within the compliance times specified, unless the actions have already been done.

(g) Modifying Seat Track Structure

For airplanes identified in Boeing Special Attention Service Bulletin 737-53-1286, Revision 1, dated December 14, 2009: Within 72 months after the effective date of this AD, replace, with new components, certain floor panels, seat track pivot link assemblies, and seat track sections with new components, and modify certain seat tracks, in accordance with the Accomplishment Instructions of Boeing Special Attention Service Bulletin 737-53-1286, Revision 1, dated December 14, 2009.

(h) Moving Seat Rows After Modifying Seat Track Structure

For airplanes identified in Boeing Special Attention Service Bulletin 737-25-1596, dated November 20, 2008: After accomplishing the requirements of paragraph (g) of this AD but within 72 months after the effective date of this AD, move certain seat rows in accordance with the Accomplishment Instructions of Boeing Special Attention Service Bulletin 737-25-1596, dated November 20, 2008.

(i) Moving Seat Rows and General Visual Inspection of Seat Tracks Using Boeing Service Bulletin 737-25-1598, Dated December 8, 2009

For airplanes identified in Boeing Special Attention Service Bulletin 737-25-1598, dated December 8, 2009: Within 72 months after the effective date of this AD, do a general visual inspection of certain areas of the seat tracks for damage, all applicable corrective actions, and move certain seat rows, in accordance with the Accomplishment Instructions of Boeing Special Attention Service Bulletin 737-25-1598, dated December 8, 2009. Do all applicable corrective actions before further flight.

(j) Moving Seat Rows and General Visual Inspection of Seat Tracks Using Boeing Special Attention Service Bulletin 737-25-1599, Dated January 20, 2010

For airplanes identified in Boeing Special Attention Service Bulletin 737-25-1599, dated January 20, 2010: Within 72 months after the effective date of this AD, do a general visual inspection of certain areas of the seat tracks for damage, all applicable corrective actions, and move certain seat rows, in accordance with the Accomplishment Instructions of Boeing Special Attention Service Bulletin 737-25-1599, dated January 20, 2010. Do all applicable corrective actions before further flight.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager Seattle ACO, to make those findings. For a repair method to be approved, the repair must meet the certification basis of the airplane, and the approval must specifically refer to this AD.

(l) Related Information

For more information about this AD, contact Sarah Piccola, Aerospace Engineer, Cabin Safety and Environmental Systems Branch, ANM-150S, FAA, Seattle Aircraft Certification Office, 1601 Lind Avenue SW., Renton, Washington 98057-3356; phone: 425-917-6483; fax: 425-917-6590; email: sarah.piccola@faa.gov.

(m) Material Incorporated by Reference

(1) You must use the following service information to do the actions required by this AD, unless the AD specifies otherwise.

(2) The Director of the Federal Register approved the incorporation by reference (IBR) under 5 U.S.C. 552(a) and 1 CFR part 51 of the following service information:

(i) Boeing Special Attention Service Bulletin 737-25-1596, dated November 20, 2008.

(ii) Boeing Special Attention Service Bulletin 737-25-1598, dated December 8, 2009.

(iii) Boeing Special Attention Service Bulletin 737-25-1599, dated January 20, 2010.

(iv) Boeing Special Attention Service Bulletin 737-53-1286, Revision 1, dated December 14, 2009.

(3) For service information identified in this AD, contact Boeing Commercial Airplanes, Attention: Data & Services Management, P.O. Box 3707, MC 2H-65, Seattle, WA 98124-2207; telephone 206-544-5000, extension 1; fax 206-766-5680; email me.boecom@boeing.com; Internet https://www.myboeingfleet.com.

(4) You may review copies of the service information at the FAA, Transport Airplane Directorate; 1601 Lind Avenue SW., Renton, Washington. For information on the availability of this material at the FAA, call 425-227-1221.

(5) You may also review copies of the service information that is incorporated by reference at the National Archives and Records Administration (NARA). For information on the availability of this material at NARA, call 202-741-6030, or go to: http://www.archives.gov/federal-register/cfr/ibr-locations.html.

Issued in Renton, Washington, on April 29, 2012.
Michael Kaszycki,
Acting Manager, Transport Airplane Directorate, Aircraft Certification Service.

[FR Doc. 2012-10891 Filed 5-7-12; 8:45 am]

BILLING CODE 4910-13-P